DEPARTMENT OF THE INTERIOR

Bureau of Ocean Energy Management

Notice of Availability of the 2024-2029 National Outer Continental Shelf Oil and Gas Leasing Proposed Final Program and Final Programmatic Environmental Impact Statement

AGENCY: Bureau of Ocean Energy Management (BOEM), Interior.

ACTION: Notice of availability.

SUMMARY: BOEM is announcing the availability of the Proposed Final Program (PFP) for the 2024-2029 National Outer Continental Shelf (OCS) Oil and Gas Leasing Program (2024-2029 Program, National OCS Program, or Program), as well as the Final Programmatic Environmental Impact Statement for the 2024-2029 Program (Final Programmatic EIS).

FOR FURTHER INFORMATION CONTACT: For information on the 2024-2029 Program process or BOEM's policies associated with this notice, please contact Ms. Kelly Hammerle, Chief, National OCS Oil and Gas Leasing Program Development and Coordination Branch, at (703) 787-1613 or Kelly.Hammerle@boem.gov. For information on the 2024-2029 Final Programmatic EIS, please contact Jennifer Bosyk, Chief, Branch of Environmental Coordination, at (703) 787-1834 or Jennifer.Bosyk@boem.gov.

SUPPLEMENTARY INFORMATION: BOEM is responsible for administering the leasing program for oil and gas resources on the OCS and advising the Secretary of the Interior on the National OCS Program. The PFP is the last in a series of three proposals made by the Secretary, pursuant to section 18 of the OCS Lands Act, before final action may be taken to approve the 2024-2029 National OCS Program. The three analytical phases used to develop a new National OCS Program are the (1) Draft Proposed Program (DPP); (2) Proposed Program; and (3) PFP.

The first proposal, the DPP, was published on July 3, 2017 (82 FR 30886), and was followed by a 60-day comment period. The second proposal, the Proposed Program, was published on January 8, 2018 (83 FR 829). A notice of availability announcing the Proposed Program was published in the Federal Register on July 8, 2022, initiating a 90-day public comment period (87 FR 40859). Following publication of the Proposed Program, BOEM received more than 760,000 comments from interested parties including governors, Federal agencies, State agencies, local agencies, energy and non-energy industries, Tribal governments, non-governmental organizations, and the general public (see Appendix A of the PFP document for more information).

After careful consideration of the OCS Lands Act section 18(a) factors, as well as input from governors and the public, the Secretary's final proposal, the PFP, includes three potential lease sales in the Gulf of Mexico (GOM) Program Area (which contains the Western GOM Planning Area and the portions of the Central and Eastern GOM planning areas not currently under Presidential withdrawal—see Figure 1). An option for a potential lease sale in the northern portion of the Cook Inlet Planning Area was identified in the Proposed Program and analyzed as part of the PFP. Based on careful consideration of section 18 requirements and factors, no Cook Inlet sale is included in the PFP.

In the PFP, the Secretary has decided to require that all leases issued under the 2024-2029 Program will include, as lease stipulations, programmatic mitigation measures to protect topographic features and pinnacle trends. Applying these stipulations at the National OCS Program development stage is consistent with current practice and continues the effective protection of these biologically sensitive areas, should they be offered in the three potential lease sales scheduled under this PFP.

The schedule shown in Table 1 reflects the potential lease sales for the 2024-2029 PFP. Figure 1 depicts the program area included in the 2024-2029 PFP.

Table 1—2024-2029 Proposed Program Lease Sale Schedule
Count | Sale No. | Year | OCS region and program area
1 | 262 | 2025 | Gulf of Mexico: GOM Program Area.
2 | 263 | 2027 | Gulf of Mexico: GOM Program Area.
3 | 264 | 2029 | Gulf of Mexico: GOM Program Area.

The Secretary's final proposal, as described in the PFP, is the proposed action evaluated in the Final Programmatic EIS. BOEM has elected to prepare the Programmatic EIS to help describe and analyze the potential environmental impacts that could result from leasing, exploration, production, and decommissioning associated with lease sales under the National OCS Program for 2024-2029. The National Aeronautics and Space Administration and the National Park Service are Cooperating Agencies on the Final Programmatic EIS.

Please go to https://www.boem.gov/oil-gas-energy/national-program/ for additional information about the Final Programmatic EIS and the National OCS Program for 2024-2029.

Next Steps in the Process: BOEM will submit the PFP and Final Programmatic EIS to the President and Congress at least 60 days prior to Secretarial approval of the 2024-2029 Program.

Authority: This Notice of Availability for the 2024-2029 PFP is published in accordance with section 18 of the OCS Lands Act and its implementing regulations (30 CFR part 556 subpart B). This Notice of Availability for the 2024-2029 Final Programmatic EIS is published pursuant to the regulation (40 CFR 1506.20 and 43 CFR 46.415) implementing the provisions of the National Environmental Policy Act.

Elizabeth Klein,
Director, Bureau of Ocean Energy Management.

BILLING CODE 4310-MR-P

[FR Doc. 2023-21678 Filed 9-29-23; 8:45 am]

BILLING CODE 4310-MR-C